DEPARTMENT OF HOUSING AND URBAN DEVELOPMENT

[Docket No. FR-7006-N-07]

60-Day Notice of Proposed Information Collection: Housing Choice Voucher Program

AGENCY: Office of the Assistant Secretary for Public and Indian Housing, PIH, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: July 24, 2018.

ADDRESSES: Interested persons are invited to submit comments regarding this proposal. Comments should refer to the proposal by name and/or OMB Control Number and should be sent to: Colette Pollard, Reports Management Officer, ODAM, Department of Housing and Urban Development, 451 7th Street SW, Room 4176, Washington, DC 20410-5000; telephone 202-402-0306 (this is not a toll-free number) or email at Colette.Pollard@hud.gov for a copy of the proposed forms or other available information. Persons with hearing or speech impairments may access this number through TTY by calling the toll-free Federal Relay Service at (800) 877-8339.

FOR FURTHER INFORMATION CONTACT: Arlette Mussington, Office of Policy, Programs and Legislative Initiatives, PIH, Department of Housing and Urban Development, 451 7th Street, SW, Room 3178, Washington, DC 20410; telephone 202-402-4109, (this is not a toll-free number).

SUPPLEMENTARY INFORMATION: This notice informs the public that HUD is seeking approval from OMB for the information collection described in Section A.

A. Overview of Information Collection

Title of Information Collection: Housing Choice Voucher (HCV) Program.

OMB Approval Number: 2577-0169.

Type of Request: Revision of currently approved collection with changes that include new requirements of the Housing Opportunities Through Modernization Act (HOTMA) of 2016 and inclusion of contract amendments for both the HCV and project-based voucher (PBV) programs.

Form Numbers: HUD-52515, HUD-52667, HUD-52580, HUD-52580-A, HUD-52517, HUD-52646, HUD-52665, HUD-52641, HUD-52641-A, HUD 52642, HUD 52649, HUD 52531A and B, HUD 52530A, HUD 52530B, HUD 52530C, HUD 52578B, HUD-50164.

Description of the Need for the Information and Proposed Use

Public Housing Agencies (PHA) will prepare an application for funding which specifies the number of units requested, as well as the PHA's objectives and plans for administering the Housing Choice (HCV) and Project Base Voucher (PBV) programs. The application is reviewed by HUD Headquarters and HUD Field Offices and ranked according to the PHA's administrative capability, the need for housing assistance, and other factors specified in a notice of funding availability. The PHAs must establish a utility allowance schedule for all utilities and other services. Units must be inspected using HUD-prescribed forms to determine if the units meet the Housing Quality Standards (HQS) of the HCV program. After the family is issued a HCV to search for a unit pursuant to attending a briefing and receiving an information packet, the family must complete and submit to the PHA a Request for Tenancy Approval when it finds a unit which is suitable for its needs. Initial PHAs will use a standardized form to submit portability information to the receiving PHA who will also use the form for monthly portability billing. PHAs and owners will enter into housing assistance payments (HAP) contract each providing information on rents, payments, certifications, notifications, and owner agreement in a form acceptable to the PHA. A Tenancy Addendum for the HCV program is included in the HAP contract as well as incorporated in the lease between the owner and the family. Families that participate in the Homeownership option will execute a statement regarding their responsibilities and execute contracts of sale including an additional contract of sale for new construction units. PHAs participating in the PBV program will enter into Agreements with owners for developing projects, HAP contracts with the existing and New Construction/Rehabilitation owners, a Statement of Family Responsibilities with the family and a lease addendum for execution between the family and the owner. New requirements have been established for independent entities in both the HCV and PBV programs. In addition, new requirements have been established for the Housing Opportunities Through Modernization (HOTMA) rule of 2016. HOTMA made changes to both the definition of PHA-owned housing and several changes to the PBV program to conform with HOTMA requirements. As a result of these updates, changes have been made to the following forms: PBV HAP Contracts (both for existing housing (HUD-52530 A and B) and new Construction/Rehab (HUD 52531 A and B); PBV Tenancy Addendum; (HUD 53530c) and HCV HAP Contract (HUD 52641).

Other forms that are being updated are: The Funding Application (HUD 52515); the Request for Tenancy Approval (HUD-2517); and Allowances for Tenant-Furnished Utilities and Other Services (HUD 5267). Three new documents each will be added for the Family Unification Program application process and the HUD-VASH Application Process. Additionally, the forms will be updated to remove outdated references (such as those to the Certificate Program). Such updates do not result in an increase in burden hours.

Respondents (i.e. affected public): State and Local Governments, businesses or other non-profits.

Estimated Number of Respondents: 2,192 PHAs.

Estimated Number of Responses: 3.680,493.

Frequency of Response: Varies by form.

Average Hours per Response: 1.

Total Estimated Burdens Hours: 1,643,173.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: May 10, 2018.
Merrie Nichols-Dixon,
Director, Office of Policy, Programs and Legislative Initiatives.

[FR Doc. 2018-11306 Filed 5-24-18; 8:45 am]

BILLING CODE 4210-67-P